DEPARTMENT OF TRANSPORTATION

Coast Guard

[CGD17-01-004]

Application for Recertification of Cook Inlet Regional Citizen's Advisory Council

AGENCY: Coast Guard, DOT.

ACTION: Notice of Availability; request for comments.

SUMMARY: The Coast Guard announces the availability of and seeks comments on the application for recertification submitted by the Cook Inlet Regional Citizen's Advisory Council (CIRCAC) for September 1, 2001 through August 31, 2002. Under the Oil Terminal and Oil Tanker Environmental Oversight and Monitoring Act of 1990, the Coast Guard may certify, on an annual basis, an alternative voluntary advisory group in lieu of a Regional Citizen's Advisory Council for Cook Inlet.

DATES: Comments must reach the Seventeenth Coast Guard District on or before October 25, 2001.

ADDRESSES: You may mail your comments to the Seventeenth Coast Guard District (mor), PO Box 25517, Juneau, AK, 99802-5517. You may also deliver them to the Juneau Federal Building, room 753, 709 W 9th St, Juneau, AK between 8 a.m. and 4 p.m., Monday through Friday, except Federal holidays.

The Seventeenth Coast Guard District maintains the public docket for this recertification process. Comments regarding recertification will become part of this docket and will be available for inspection or copying at the Juneau Federal Building, room 753, 709 W 9th St.

A copy of the application is also available for inspection at the Cook Inlet Regional Citizen's Advisory Council Offices at 910 Highland Avenue, Kenai, AK 99611-8033 between the hours of 8 a.m. and 5 p.m., Monday through Friday, except Federal holidays. The telephone number is (907) 283-7222 in Kenai, Alaska.

FOR FURTHER INFORMATION CONTACT: For questions on viewing or submitting material to the docket contact LT Michael Patterson, Seventeenth Coast Guard District (mor), (907) 463-2807.

SUPPLEMENTARY INFORMATION:

Request for Comments

The Coast Guard encourages interested persons to submit written data, views, or arguments. It solicits comments from interested groups including oil terminal facility owners and operators, owners and operators of crude oil tankers calling at terminal facilities, Alaska Native Tribes, fishing, aquacultural, recreational and environmental citizens groups, concerning the recertification application of CIRCAC. Persons submitting comments should include their names and addresses, identify this rulemaking (CGD17-01-04) and the specific section of this document to which each comment applies, and give the reason for each comment. Please submit all comments and attachments in an unbound format, no larger than 8½ by 11 inches, suitable for copying and electronic filing. Persons wanting acknowledgement of receipt of comments should enclose stamped, self-addressed postcards or envelopes.

The Coast Guard plans no public hearing. Persons may request a public hearing by writing to Commander (m), Seventeenth Coast Guard District, PO Box 25517, Juneau, AK, 99802-5517. The request should include reasons why a hearing would be beneficial. If there is sufficient evidence to determine that oral presentations will aid this recertification process, the Coast Guard will hold a public hearing at a time and place announced by a later notice in the Federal Register.

Background and Purpose

The Coast Guard published guidelines on December 31, 1992 (57 FR 626000), to assist groups seeking recertification under the Oil Terminal and Oil Tanker Environmental Oversight and Monitoring Act of 1990 (33 U.S.C. 2732) (the Act). The Coast Guard issued a policy statement on July 7, 1993 (58 FR 36505), to clarify the factors that the Coast Guard would be considering in making its determination as to whether advisory groups should be certified in accordance with the Act; and the procedures which the Coast Guard would follow in meeting its certification responsibilities under the Act. Most recently, on December 28, 2000 (65 FR 82451) the Coast Guard published a proposal and request for comments to streamline the RCAC certification process. The comments received on that proposal are under review prior to implementing changes to the certification process.

The Coast Guard has received an application for recertification of CIRCAC, the currently certified advisory group for the Cook Inlet region. In accordance with the review and certification process contained in the policy statement, the Coast Guard announces the availability of that application.

At the conclusion of the comment period, the Coast Guard will review all application materials and comments received and will take one of the following actions:

(a) Recertify the advisory group under 33 U.S.C. 2732(o).

(b) Issue a conditional recertification for a period of 90 days, with a statement of any discrepancies, which must be corrected to qualify for recertification for the remainder of the year.

(c) Deny recertification of the advisory group if the Coast Guard finds that the group is not broadly representative of the interests and communities in the area or is not adequately fostering the goals and purposes of 33 U.S.C. 2732.

The Coast Guard will notify CIRCAC by letter of the action taken on its application. A notice will be published in the Federal Register to advise the public of the Coast Guard's determination.

Dated: September 6, 2001.
T.J. Barrett,
Rear Admiral, U.S. Coast Guard, Commander, Seventeenth Coast Guard District.

[FR Doc. 01-23823 Filed 9-24-01; 8:45 am]

BILLING CODE 4910-15-U